DEPARTMENT OF DEFENSE

Department of the Army; Corps of Engineers

Intent To Prepare an Environmental Impact Statement for the Ala Wai Canal Project, Hawaii

AGENCY: Department of the Army, U.S. Army Corps of Engineers, DoD.

ACTION: Notice; correction.

SUMMARY: The notice published in the Federal Register of June 14, 2004 (69 FR 32996) contained an incorrect contact telephone number for Mr. Derek Chow.

FOR FURTHER INFORMATION CONTACT: Mr. Derek Chow, (808) 438-7009.

Correction

In the Federal Register of June 14, 2004, in FR Doc. 04-13269, on page 32996, in the third column, correct Mr. Chow's telephone number in the FOR FURTHER INFORMATION CONTACT caption to read: 808-438-7009.

Brenda S. Bowen,
Alternate Army Federal Register Liaison Officer.

[FR Doc. 04-14550 Filed 6-25-04; 8:45 am]

BILLING CODE 3710-NN-M